DEPARTMENT OF THE INTERIOR

National Park Service

[NPS-WASO-CONC-22177; PPWOBSADC0, PPMVSCS1Y.Y0000]

Notice of Temporary Concession Contracts for Certain Visitor Services in Acadia National Park

AGENCY: National Park Service, Interior.

ACTION: Notice.

SUMMARY: The National Park Service intends to award two temporary concession contracts to a qualified person for the conduct of certain visitor services within Acadia National Park for a term not to exceed 3 years. The visitor services include guided bus tours.

FOR FURTHER INFORMATION CONTACT: Judy Bassett, Northeast Regional Concession Chief, Northeast Region, 200 Chestnut Street, Suite 502, Philadelphia, PA 19106; Telephone (215) 597-4903, by email at judy_bassett@nps.gov.

SUPPLEMENTARY INFORMATION: The National Park Service intends to award each contract to a concessioner currently operating under a long-term concessions contract. If the National Park Service is unable to reach acceptable terms, however, it may find other qualified persons for the award of each of the temporary contracts. The National Park Service has determined that the issuance of temporary concession contracts not to exceed 3 years is necessary to avoid interruption of visitor services and has taken all reasonable and appropriate steps to consider alternatives to avoid an interruption of visitor services in accordance with 36 CFR 51.24.

Authority: This action is issued pursuant to 36 CFR 51.24(a). This is not a request for proposals.

Dated: November 1, 2016.
Michael Reynolds,
Deputy Director, Operations.

[FR Doc. 2016-27732 Filed 11-17-16; 8:45 am]

BILLING CODE 4312-52-P